DEPARTMENT OF THE INTERIOR

Bureau of Ocean Energy Management, Regulation and Enforcement

Environmental Documents Prepared for Proposed Oil, Gas, and Mineral Operations by the Gulf of Mexico Outer Continental Shelf (OCS) Region

AGENCY: Bureau of Ocean Energy Management, Regulation and Enforcement.

ACTION: Notice of the Availability of Environmental Documents Prepared for OCS Mineral Proposals by the Gulf of Mexico OCS Region.

SUMMARY: The Bureau of Ocean Energy Management, Regulation and Enforcement (BOEMRE), in accordance with Federal Regulations that implement the National Environmental Policy Act (NEPA), announces the availability of NEPA-related Site-Specific Environmental Assessments (SEA) and Findings of No Significant Impact (FONSI), prepared by BOEMRE for the following oil-, gas-, and mineral-related activities proposed on the Gulf of Mexico.

FOR FURTHER INFORMATION CONTACT: Public Information Unit, Information Services Section at the number below. Bureau of Ocean Energy Management, Regulation and Enforcement, Gulf of Mexico OCS Region, Attention: Public Information Office (MS 5034), 1201 Elmwood Park Boulevard, Room 250, New Orleans, Louisiana 70123-2394, or by calling 1-800-200-GULF.

SUPPLEMENTARY INFORMATION: BOEMRE prepares SEAs and FONSIs for proposals that relate to exploration, development, production, and transport of oil, gas, and mineral resources on the Federal OCS. These SEAs examine the potential environmental effects of activities described in the proposals and present BOEMRE conclusions regarding the significance of those effects. Environmental Assessments are used as a basis for determining whether or not approval of the proposals constitutes a major Federal action that significantly affects the quality of the human environment in accordance with NEPA Section 102(2)(C). A FONSI is prepared in those instances where BOEMRE finds that approval will not result in significant effects on the quality of the human environment. The FONSI briefly presents the basis for that finding and includes a summary or copy of the SEA. This notice constitutes the public notice of availability of environmental documents required under the NEPA Regulations.

Activity/operator | Location | Date
Apache Corporation, Structure Removal, SEA ES/SR 08-011 | Eugene Island, Block 306, Lease OCS-G 02109, located 75 miles from the nearest Louisiana shoreline | 10/1/2010
W & T Offshore, Inc., Structure Removal, SEA ES/SR 10-123 | East Cameron, Block 369, Lease OCS-G 21585, located 123 miles from the nearest Louisiana shoreline | 10/4/2010
Mariner Energy, Inc., Structure Removal, SEA ES/SR 10-140 | Mustang Island, Block 754, Lease OCS-G 05985, located 18 miles from the nearest Texas shoreline | 10/4/2010
Marathon Oil Company, Revised Exploration Plan, SEA R-5046 AA | Mississippi Canyon, Block 993, Lease OCS-G 24134, located in the Central Planning Area of the Gulf of 73 miles offshore, south of Mexico, Venice, Louisiana | 10/5/2010
Maritech Resources, Inc., Structure Removal, SEA ES/SR 09-226 | Ship Shoal, Block 269, Lease OCS-G 01036, located 59 miles from the nearest Louisiana shoreline | 10/5/2010
Maritech Resources, Inc., Structure Removal, SEA ES/SR 10-010 | Ship Shoal, Block 269, Lease OCS-G 01036, located 59 miles from the nearest Louisiana shoreline | 10/5/2010
Chevron U.S.A. Inc., Structure Removal, SEA ES/SR 09-186, 09-187, 09-188, 09-189, 09-190 & 09-191 | East Cameron, Block 272, Lease OCS-G 02047, located 79 miles from the nearest Louisiana shoreline | 10/7/2010
Shell Offshore Inc., Geological & Geophysical Survey, SEA L10-033 | Located in the Central Gulf of Mexico, 42 miles south of Venice, Louisiana | 10/7/2010
Seabird Exploration Americas, Inc., Geological & Geophysical Survey, SEA L10-026 | Located in the Central and Western Planning Areas of the Gulf of Mexico, south of Texas and Louisiana | 10/7/2010
Nippon Oil Exploration U.S.A. Limited, Structure Removal, SEA ES/SR 10-136 | Main Pass, Block 226, Lease OCS-G 16508, located 72 miles from the nearest Louisiana shoreline | 10/8/2010
Royal Production Company, Inc., Structure Removal, SEA ES/SR 10-159 | Mobile, Block 1002, Lease OCS-G 26183, located 15 miles from the nearest Alabama shoreline | 10/12/2010
Bandon Oil and Gas, LP, Structure Removal, SEA ES/SR 10-151 | South Timbalier, Block 196, Lease OCS-G 01253, located 37 miles from the nearest Louisiana shoreline | 10/12/2010
Royal Production Company, Inc., Structure Removal, SEA ES/SR 10-163 | Mobile, Block 1003, Lease OCS-G 26184, located 14 miles from the nearest Alabama shoreline | 10/15/2010
Royal Production Company, Inc., Structure Removal, SEA ES/SR 10-161 | Mobile, Block 950, Lease OCS-G 27225, located 23 miles from the nearest Alabama shoreline | 10/15/2010
Royal Production Company, Inc., Structure Removal, SEA ES/SR 10-162 | Mobile, Block 951, Lease OCS-G 27226, located 23 miles from the nearest Alabama shoreline | 10/15/2010
Royal Production Company, Inc., Structure Removal, SEA ES/SR 10-158 | Mobile, Block 993, Lease OCS-G 27227, located 23 miles from the nearest Alabama shoreline | 10/20/2010
Royal Production Company, Inc., Structure Removal, SEA ES/SR 10-160 | Mobile, Block 994, Lease OCS-G 27228, located 23 miles from the nearest Alabama shoreline | 10/20/2010
Pisces Energy LLC, Structure Removal, SEA ES/SR 10-157 | Eugene Island, Block 41, Lease OCS-G 04857, located 15 miles from the nearest Louisiana shoreline | 10/21/2010
Mariner Energy, Inc., Structure Removal, SEA ES/SR 08-096 | South Marsh Island, Block 136, Lease OCS-G 02588, located 89 miles from the nearest Louisiana shoreline | 10/26/2010
Mariner Energy, Inc., Structure Removal, SEA ES/SR 08-097 | South Marsh Island, Block 149, Lease OCS-G 02592, located 93 miles from the nearest Louisiana shoreline | 10/26/2010
Nippon Oil Exploration U.S.A. Limited, Structure Removal, SEA ES/SR 10-164 | South Marsh Island, Block 235, Lease OCS-G 02300, located 14 miles from the nearest Louisiana shoreline | 10/26/2010
Nippon Oil Exploration U.S.A. Limited, Structure Removal, SEA ES/SR 10-137 | South Marsh Island, Block 234, Lease OCS-G 02300, located 20 miles from the nearest Louisiana shoreline | 11/8/2010
GOM Shelf LLC, Structure Removal, SEA ES/SR 10-039B | West Delta, Block 71, Lease OCS-G 00838, located 23 miles from the nearest Louisiana shoreline | 11/9/2010
Nippon Oil Exploration U.S.A. Limited, Structure Removal, SEA ES/SR 10-165 | South Marsh Island, Block 255, Lease OCS-G 09564, located 31 miles from the nearest Louisiana shoreline | 11/10/2010
Millennium Offshore Group, Inc., Structure Removal, SEA ES/SR 08-041A | Eugene Island, Block 190, Lease OCS-G 08434, located 35 miles from the nearest Louisiana shoreline | 11/16/2010
Exxon Mobil Corporation, Structure Removal, SEA ES/SR 08-175A | High Island, Block 193, Lease OCS-G 03237, located 18 miles from the nearest Texas shoreline | 11/17/2010
El Paso E&P Company, L.P., Structure Removal, SEA ES/SR 10-034 | Eugene Island, Block 372, Lease OCS-G 03786, located 95 miles from the nearest Texas shoreline | 11/18/2010
Nippon Oil Exploration U.S.A. Limited, Structure Removal, SEA ES/SR 10-154 | High Island, Block 140, Lease OCS-00518, located 20 miles from the nearest Louisiana shoreline | 11/18/2010
Royal Production Company, Inc., Structure Removal, SEA ES/SR 10-167 | Mobile, Block 829, Lease OCS-G 23683, located 5 miles from the nearest Alabama shoreline | 11/18/2010
Nippon Oil Exploration U.S.A. Limited, Structure Removal, SEA ES/SR 10-168 | South Marsh, Block 255, Lease OCS-G 09564, located 25 miles from the nearest Louisiana shoreline | 11/18/2010
Pisces Energy LLC, Structure Removal, SEA ES/SR 10-166 | Eugene Island, Block 41, Lease OCS-G 04857, located 18 miles from the nearest Louisiana shoreline | 11/24/2010
EOG Resources, Inc., Structure Removal, SEA ES/SR 97-081A | Mobile, Block 914, Lease OCS-G 07846, located 10 miles from the nearest Alabama shoreline | 11/24/2010
Maritech Resources, Inc., Structure Removal, SEA ES/SR 10-169 | West Delta, Block 32, Lease OCS-00367, located 9 miles from the nearest Louisiana shoreline | 11/24/2010
Apache Corporation, Structure Removal, SEA ES/SR 10-170 & 10-171 | South Pelto, Block 9, Lease OCS-G 02924, located 6 miles from the nearest Louisiana shoreline | 12/1/2010
Fugro Multi Client Services, Inc., Geological & Geophysical Survey, SEA L10-044 | Located in the Central Planning Area of the Gulf of Mexico | 12/1/2010
Dynamic Data Services, Inc., Geological & Geophysical Survey, SEA L10-043 | Located in the Western and Central Planning Areas of the Gulf of Mexico | 12/1/2010
Mariner Energy, Inc., Structure Removal, SEA ES/SR 09-216A | Eugene Island, Block 292, Lease OCS-G 00994, located 73 miles from the nearest Louisiana shoreline | 12/2/2010
GOM Shelf LLC, Structure Removal, SEA ES/SR 10-031A & 10-032A | Matagorda Island, Blocks 633 & 634, Leases OCS-G 06042 & 07202, located 14 & 18 miles from the nearest Texas shoreline | 12/3/2010
WesternGeco, Geological & Geophysical Survey Application, SEA L10-046 | Located in the Central Planning Area of the Gulf of Mexico | 12/3/2010
CCGVeritas, Geological & Geophysical Survey Application, SEA T10-003 | Located in the Western Planning Area of the Gulf of Mexico | 12/3/2010
Apache Corporation, Structure Removal, EA ES/SR 10-172, 10-173 & 10-174 | South Pelto, Block 10, Lease OCS-G 02925, located 6, 5, & 7 miles from the nearest Louisiana shoreline | 12/6/2010
Apache Corporation, Structure Removal, SEA ES/SR 10-175, 10-176, 10-177, 10-178 & 10-179 | South Pelto, Block 11, Lease OCS-00071, located 8 miles from the nearest Louisiana shoreline | 12/6/2010
Brandon Oil and Gas, LP, Structure Removal, SEA ES/SR 10-152 & 10-153 | West Cameron, Block 599 & 598, Lease OCS-G 14348 & 17815, located 110 miles from the nearest Louisiana shoreline | 12/8/2010
Chevron U.S.A. Inc., Exploration Plan SEA R-5099 | Green Canyon, Block 640, located south of Louisiana in the Central Planning Area of the Gulf of Mexico | 12/10/2010
WesternGeco, LLC, Geological & Geophysical Survey, SEA L10-035 | Located in the Central Planning Area of the Gulf of Mexico | 12/10/2010
WesternGeco, Geological & Geophysical Survey Application, SEA T10-002 | Located in the Western Planning Area of the Gulf of Mexico | 12/10/2010
TDI-Brooks International, Inc., Geological & Geophysical Survey, SEA M10-007 | Located in the Western Gulf of Mexico | 12/20/2010
Energy XXI GOM, LLC, Structure Removal, SEA ES/SR 10-189 | South Timbalier, Block 27, Lease OCS-G 01443, located 7 miles from the nearest Louisiana shoreline | 12/28/2010
Energy XXI GOM, LLC, Structure Removal, SEA ES/SR 88-064A | South Timbalier, Block 27, Lease OCS-G 01443, located 7 miles from the nearest Louisiana shoreline | 12/29/2010
Energy XXI GOM, LLC, Structure Removal, SEA ES/SR 97-146A | South Timbalier, Block 27, Lease OCS-G 01443, located 7 miles from the nearest Louisiana shoreline | 12/29/2010
Energy XXI GOM, LLC, Structure Removal, SEA ES/SR 10-190 | South Timbalier, Block 28, Lease OCS-G 01362, located 7 miles from the nearest Louisiana shoreline | 12/29/2010
Century Exploration New Orleans, Inc., Structure Removal, SEA ES/SR 10-194 | Ship Shoal, Block 153, Lease OCS-G 18011, located 27 miles from the nearest Louisiana shoreline | 12/30/2010
Energy XXI GOM, LLC, Structure Removal, SEA ES/SR 10-191, 10-192 & 10-193 | South Timbalier, Block 21, Lease OCS 00263, located 4 miles from the nearest Louisiana shoreline | 12/30/2010
Energy XXI GOM, LLC, Structure Removal, SEA ES/SR 10-180, 10-181, 10-182, 10-183, 10-184, 10-185 & 10-186 | South Timbalier, Block 21, Lease OCS 00263, located 4 miles from the nearest Louisiana shoreline | 12/30/2010

Persons interested in reviewing environmental documents for the proposals listed above or obtaining information about SEAs and FONSIs prepared by the Gulf of Mexico OCS Region are encouraged to contact BOEMRE at the address or telephone listed in the FOR FURTHER INFORMATION CONTACT section.

Dated: February 16, 2011.
Lars Herbst,
Regional Director, Gulf of Mexico OCS Region.

[FR Doc. 2011-6990 Filed 3-23-11; 8:45 am]

BILLING CODE 4310-MR- P